DEPARTMENT OF LABOR

Employment and Training Administration

[TA-W-75,192; TA-W-75,192A]

Core Industries, Inc., DBA Star Trac and/or Unisen, Inc., DBA STAR TRAC and/or Trac Strength, Including On-Site Leased Workers From Aerotek, Helpmates, Mattson, and Empire Staffing, Irvine, CA; Core Industries, Inc., DBA Star Trac and/ar Unisen, Inc., DBA Star Trac and/or STAR Trac Strength, Including On-Site Leased Workers From Aerotek, Helpmates, Mattson, and Empire Staffing, Murrieta, CA; Amended Certification Regarding Eligibility To Apply for Worker Adjustment Assistance

In accordance with Section 223 of the Trade Act of 1974, as amended (“Act”), 19 U.S.C. 2273, the Department of Labor issued a Certification of Eligibility to Apply for Worker Adjustment Assistance on February 15, 2011, applicable to workers of Core Industries, Inc., DBA Star Trac, Irvine, California. The workers produce commercial fitness equipment. The notice was published in the Federal Register on March 10, 2011 (75 FR 13230). The notice was amended on April 1, 2011 to include the Murrieta, California location of Core Industries, Inc., DBA Star Trac. The amended notice was published in the Federal Register on April 14, 2011 (76 FR 21033-21034).

At the request of the company, the Department reviewed the certification for workers of the subject firm. New information shows following a re-organization in November 2010, Core Industries, Inc., DBA Star Trac is also DBA Unisen, Inc. DBA Star Trac and/or Star Trac Strength. Some workers separated from employment at the Irvine, California and Murrieta, California locations of the subject firm had their wages reported under a separate unemployment insurance (UI) tax account under the name Unisen, Inc., DBA Star Trac and/or Star Trac Strength.

Accordingly, the Department is amending this certification to properly reflect the name of the subject firm in its entirety.

The amended notice applicable to TA-W-75,192 and TA-W-75,192A is hereby issued as follows:

All workers of Core Industries, Inc., DBA Star Trac, and/or Unisen, Inc., DBA Star Trac and/or Star Trac Strength, including on-site leased workers from Aerotek, Helpmates, Mattson, and Empire Staffing, Irvine, California (TA-W-75,192), and Core Industries, Inc., DBA Star Trac, and/or Unisen, Inc., DBA Star Trac and/or Star Trac Strength, including on-site leased workers from Aerotek, Helpmates, Mattson, and Empire Staffing, Murrieta, California (TA-W-75,192A), who became totally or partially separated from employment on or after February 8, 2010, through February 15, 2013, and all workers in the group threatened with total or partial separation from employment on the date of certification through two years from the date of certification, are eligible to apply for adjustment assistance under Chapter 2 of Title II of the Trade Act of 1974, as amended.

Signed in Washington, D.C., this 25th day of May 2011.
Michael W. Jaffe,
Certifying Officer, Office of Trade Adjustment Assistance.

[FR Doc. 2011-13790 Filed 6-2-11; 8:45 am]

BILLING CODE 4510-FN-P